SECURITIES AND EXCHANGE COMMISSION

[Release No. 34-82067; File No. SR-OCC-2015-02]

In the Matter of the Petitions of: Virtu Financial Inc. and Virtu Americas, LLC and Susquehanna International Group, et al.; Order Granting Motion To Substitute Parties and Motion for Extension of Time; Securities Exchange Act of 1934

November 13, 2017.

On November 2, 2017, Virtu Financial Inc. and Virtu Americas LLC (collectively “Virtu”) filed an Unopposed Motion to Substitute Virtu Financial Inc. and Virtu Americas LLC for Petitioner KCG Holdings, Inc. (“KCG”) pursuant to Rules 102 and 200(d) of the Commission Rules of Practice.¹ In its motion, Virtu represents that it acquired KCG earlier this year and represents the successor in interest to KCG and its subsidiary. Virtu represents that it intends to participate in the matter pertaining to SR-OCC-2015-02 moving forward. Virtu also represents that the motion is unopposed. The Commission believes that it is appropriate to grant the motion.

¹ 17 CFR 201.102 and 200(d).

On November 7, 2017, Petitioners Susquehanna International Group, LLP, BOX Options Exchange, LLC, MIAX International Securities Exchange, LLC, and Virtu, (collectively “Petitioners”) filed an Unopposed Motion for Extension of Time pursuant to Rule 161 of the Commission Rules of Practice ² to extend the time previously provided for in the Commission's September 14, 2017 Corrected Order Scheduling Filing of Statements on Review (“Corrected Order”).³ The Petitioners represent that the motion is unopposed by the Options Clearing Corporation (“OCC”). The Petitioners also represent that they have entered into a confidentiality agreement with OCC on November 1, 2017 to obtain access to the confidential filings that OCC submitted to the Commission on October 13, 2017 to support OCC's proposed rule change. The Petitioners request an extension of time so that they may review these confidential materials and provide the Commission with informed and deliberate comments. The Petitioners further represent that extending the time for comment would allow them the same amount of time, thirty days, to review the materials as was contemplated by the Corrected Order. Given the unopposed nature of the request and the surrounding facts regarding this matter, the Commission believes that granting the extension will serve the interests of justice.

² 17 CFR 201.161.

³ Exchange Act Release No. 81629 (September 14, 2017), File No. SR-OCC-2015-02.

Accordingly, it is ordered, that the Unopposed Motion to Substitute Virtu Financial Inc. and Virtu Americas LLC for Petitioner KCG Holdings, Inc., is hereby granted; and

It is further ordered, that the Unopposed Motion for Extension of Time is hereby granted. The time for any party or other person to file any additional statement, which may include statements previously submitted or otherwise available, or any new information such party or other person considers relevant, is extended from November 13, 2017 to November 30, 2017.

By the Commission.
Brent J. Fields,
Secretary.

[FR Doc. 2017-24939 Filed 11-16-17; 8:45 am]

BILLING CODE 8011-01-P